DEPARTMENT OF TRANSPORTATION

Federal Motor Carrier Safety Administration

[Docket No. FMCSA-2019-0005]

Qualification of Drivers; Exemption Applications; Vision

AGENCY: Federal Motor Carrier Safety Administration (FMCSA), DOT.

ACTION: Notice of applications for exemption; request for comments.

SUMMARY: FMCSA announces receipt of applications from 13 individuals for an exemption from the vision requirement in the Federal Motor Carrier Safety Regulations (FMCSRs) to operate a commercial motor vehicle (CMV) in interstate commerce. If granted, the exemptions will enable these individuals to operate CMVs in interstate commerce without meeting the vision requirement in one eye.

DATES: Comments must be received on or before April 19, 2019.

ADDRESSES: You may submit comments identified by the Federal Docket Management System (FDMS) Docket No. FMCSA-2019-0005 using any of the following methods:

• Federal eRulemaking Portal: Go to http://www.regulations.gov. Follow the online instructions for submitting comments.

• Mail: Docket Management Facility; U.S. Department of Transportation, 1200 New Jersey Avenue SE, West Building Ground Floor, Room W12-140, Washington, DC 20590-0001.

• Hand Delivery: West Building Ground Floor, Room W12-140, 1200 New Jersey Avenue SE, Washington, DC, between 9 a.m. and 5 p.m., ET, Monday through Friday, except Federal Holidays.

• Fax: 1-202-493-2251.

To avoid duplication, please use only one of these four methods. See the “Public Participation” portion of the SUPPLEMENTARY INFORMATION section for instructions on submitting comments.

FOR FURTHER INFORMATION CONTACT: Ms. Christine A. Hydock, Chief, Medical Programs Division, (202) 366-4001, fmcsamedical@dot.gov, FMCSA, Department of Transportation, 1200 New Jersey Avenue SE, Room W64-224, Washington, DC 20590-0001. Office hours are 8:30 a.m. to 5 p.m., ET, Monday through Friday, except Federal holidays. If you have questions regarding viewing or submitting material to the docket, contact Docket Services, telephone (202) 366-9826.

SUPPLEMENTARY INFORMATION:

I. Public Participation

A. Submitting Comments

If you submit a comment, please include the docket number for this notice (Docket No. FMCSA-2019-0005), indicate the specific section of this document to which each comment applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to http://www.regulations.gov, put the docket number, FMCSA-2019-0005, in the keyword box, and click “Search.” When the new screen appears, click on the “Comment Now!” button and type your comment into the text box on the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period.

B. Viewing Documents and Comments

To view comments, as well as any documents mentioned in this notice as being available in the docket, go to http://www.regulations.gov. Insert the docket number, FMCSA-2019-0005, in the keyword box, and click “Search.” Next, click the “Open Docket Folder” button and choose the document to review. If you do not have access to the internet, you may view the docket online by visiting the Docket Management Facility in Room W12-140 on the ground floor of the DOT West Building, 1200 New Jersey Avenue SE, Washington, DC 20590, between 9 a.m. and 5 p.m., ET, Monday through Friday, except Federal holidays.

C. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. Background

Under 49 U.S.C. 31136(e) and 31315, FMCSA may grant an exemption from the FMCSRs for a five-year period if it finds such exemption would likely achieve a level of safety that is equivalent to, or greater than, the level that would be achieved absent such exemption. The statute also allows the Agency to renew exemptions at the end of the five-year period. FMCSA grants exemptions from the FMCSRs for a two-year period to align with the maximum duration of a driver's medical certification.

The 13 individuals listed in this notice have requested an exemption from the vision requirement in 49 CFR 391.41(b)(10). Accordingly, the Agency will evaluate the qualifications of each applicant to determine whether granting an exemption will achieve the required level of safety mandated by statute.

The physical qualification standard for drivers regarding vision found in 49 CFR 391.41(b)(10) states that a person is physically qualified to drive a CMV if that person has distant visual acuity of at least 20/40 (Snellen) in each eye without corrective lenses or visual acuity separately corrected to 20/40 (Snellen) or better with corrective lenses, distant binocular acuity of at least 20/40 (Snellen) in both eyes with or without corrective lenses, field of vision of at least 70° in the horizontal Meridian in each eye, and the ability to recognize the colors of traffic signals and devices showing standard red, green, and amber.

In July 1992, the Agency first published the criteria for the Vision Waiver Program, which listed the conditions and reporting standards that CMV drivers approved for participation would need to meet (Qualification of Drivers; Vision Waivers, 57 FR 31458, July 16, 1992). The current Vision Exemption Program was established in 1998, following the enactment of amendments to the statutes governing exemptions made by § 4007 of the Transportation Equity Act for the 21st Century (TEA-21), Public Law 105-178, 112 Stat. 107, 401 (June 9, 1998). Vision exemptions are considered under the procedures established in 49 CFR part 381 subpart C, on a case-by-case basis upon application by CMV drivers who do not meet the vision standards of 49 CFR 391.41(b)(10).

To qualify for an exemption from the vision requirement, FMCSA requires a person to present verifiable evidence that he/she has driven a commercial vehicle safely with the vision deficiency for the past three years. Recent driving performance is especially important in evaluating future safety, according to several research studies designed to correlate past and future driving performance. Results of these studies support the principle that the best predictor of future performance by a driver is his/her past record of crashes and traffic violations. Copies of the studies may be found at Docket Number FMCSA-1998-3637.

FMCSA believes it can properly apply the principle to monocular drivers, because data from the Federal Highway Administration's (FHWA) former waiver study program clearly demonstrated the driving performance of experienced monocular drivers in the program is better than that of all CMV drivers collectively (See 61 FR 13338, 13345, March 26, 1996). The fact that experienced monocular drivers demonstrated safe driving records in the waiver program supports a conclusion that other monocular drivers, meeting the same qualifying conditions as those required by the waiver program, are also likely to have adapted to their vision deficiency and will continue to operate safely.

The first major research correlating past and future performance was done in England by Greenwood and Yule in 1920. Subsequent studies, building on that model, concluded that crash rates for the same individual exposed to certain risks for two different time periods vary only slightly (See Bates and Neyman, University of California Publications in Statistics, April 1952). Other studies demonstrated theories of predicting crash proneness from crash history coupled with other factors. These factors—such as age, sex, geographic location, mileage driven and conviction history—are used every day by insurance companies and motor vehicle bureaus to predict the probability of an individual experiencing future crashes (See Weber, Donald C., “Accident Rate Potential: An Application of Multiple Regression Analysis of a Poisson Process,” Journal of American Statistical Association, June 1971). A 1964 California Driver Record Study prepared by the California Department of Motor Vehicles concluded that the best overall crash predictor for both concurrent and nonconcurrent events is the number of single convictions. This study used three consecutive years of data, comparing the experiences of drivers in the first two years with their experiences in the final year.

III. Qualifications of Applicants

Maximo Fernandez

Mr. Fernandez, 37, has had retinal dystrophy in his right eye since 2013. The visual acuity in his right eye is 20/150, and in his left eye, 20/40. Following an examination in 2019, his optometrist stated, “I hereby certify that in my medical opinion, Mr. Maximo Fernandez does have sufficient vision to perform the driving tasks required to operate a commercial vehicle in interstate commerce only.” Mr. Fernandez reported that he has driven straight trucks for six years, accumulating 150,000 miles, and tractor-trailer combinations for six years, accumulating 150,000 miles. He holds a Class A CDL from Texas. His driving record for the last three years shows no crashes and no convictions for moving violations in a CMV.

Michael W. Ireland

Mr. Ireland, 60, has had a retinal detachment in his right eye due to a retinal defect since 2012. The visual acuity in his right eye is 20/400, and in his left eye, 20/20. Following an examination in 2018, his ophthalmologist stated, “He has sufficient vision to perform the driving tasks required to operate a commercial vehicle.” Mr. Ireland reported that he has driven straight trucks for 40 years, accumulating 2.2 million miles, and tractor-trailer combinations for 38 years, accumulating 380,000 miles. He holds a Class AM CDL from Massachusetts. His driving record for the last three years shows no crashes and no convictions for moving violations in a CMV.

Thomas J. Johnston, Jr.

Mr. Johnston, 41, has macular atrophy in his right eye due to a traumatic incident in 1996. The visual acuity in his right eye is 20/200, and in his left eye, 20/20. Following an examination in 2018, his optometrist stated, “In my professional opinion, Thomas Johnston has sufficient vision to preform [sic] the driving tasks required to operate a commercial vehicle.” Mr. Johnston reported that he has driven straight trucks for 22 years, accumulating 1.1 million miles. He holds an operator's license from Texas. His driving record for the last three years shows no crashes and no convictions for moving violations in a CMV.

Keith A. Larson

Mr. Larson, 58, has band keratopathy in his left eye due to a traumatic incident in 2000. The visual acuity in his right eye is 20/20, and in his left eye, light perception. Following an examination in 2018, his ophthalmologist stated, “Mr. Larson is diagnosed with band keratopathy of the left eye and in my opinion is able to drive a commercial vehicle.” Mr. Larson reported that he has driven straight trucks for 18 years, accumulating 387,000 miles. He holds an operator's license from Massachusetts. His driving record for the last three years shows no crashes and no convictions for moving violations in a CMV.

Scott A. MacPherson

Mr. MacPherson, 53, has a cataract in his right eye due to a traumatic incident in childhood. The visual acuity in his right eye is 20/400, and in his left eye, 20/20. Following an examination in 2018, his optometrist stated, “I certify that in my medical opinion Scott MacPherson has sufficient vision to perform the driving tasks required to operate a commercial vehicle.” Mr. MacPherson reported that he has driven straight trucks for 18 years, accumulating 144,000 miles. He holds an operator's license from Massachusetts. His driving record for the last three years shows no crashes and no convictions for moving violations in a CMV.

Brandon L. Mask

Mr. Mask, 31, has a prosthetic left eye due to a traumatic incident in childhood. The visual acuity in his right eye is 20/15, and in his left eye, no light perception. Following an examination in 2018, his optometrist stated, “It is in my opinion Brandon has sufficient vison [sic] to operate a commercial vehicle.” Mr. Mask reported that he has driven tractor-trailer combinations for seven years, accumulating 525,000 miles. He holds a Class A CDL from Arkansas. His driving record for the last three years shows no crashes and no convictions for moving violations in a CMV.

Christopher W. Proeschel

Mr. Proeschel, 55, has a macular scar in his left eye due to toxoplasmosis in 1981. The visual acuity in his right eye is 20/20, and in his left eye, 20/80. Following an examination in 2018, his optometrist stated, “Chris has sufficient vision to perform driving tasks of a commercial vehicle binocularly with both eyes open, achieving 20/20 with both eyes, but reduced vision of 20/80 in the left eye.” Mr. Proeschel reported that he has driven straight trucks for 38 years, accumulating 38,000 miles, and tractor-trailer combinations for 26 years, accumulating 130,000 miles. He holds a Class A CDL from Ohio. His driving record for the last three years shows no crashes and no convictions for moving violations in a CMV.

Michael Renzetti

Mr. Renzetti, 57, has a prosthetic right eye due to trauma in childhood. The visual acuity in his right eye is no light perception, and in his left eye, 20/20. Following an examination in 2018, his ophthalmologist stated, “I believe that Mr. Renzetti's left eye is sufficient and his visual deficiency is stable. I believe Michael is able to drive a Commercial Motor Vehicle `CMV' without any problems or restrictions.” Mr. Renzetti reported that he has driven straight trucks for 33 years, accumulating 214,500 miles, and tractor-trailer combinations for 33 years, accumulating 2.8 million miles. He holds a Class A CDL from Connecticut. His driving record for the last three years shows no crashes and no convictions for moving violations in a CMV.

Cory W. Schell

Mr. Schell, 52, has had amblyopia in his left eye since birth. The visual acuity in his right eye is 20/20, and in his left eye, 20/500. Following an examination in 2018, his optometrist stated, “In my medical opinion, I believe his vision has been sufficient to operate a commercial vehicle and expect it to remain so for the unforeseen future.” Mr. Schell reported that he has driven straight trucks for 35 years, accumulating 350,000 miles, and tractor-trailer combinations for five years, accumulating 10,000 miles. He holds a Class A CDL from Washington. His driving record for the last three years shows no crashes and no convictions for moving violations in a CMV.

Rodney A. Stahl

Mr. Stahl, 29, has had amblyopia in his left eye since childhood. The visual acuity in his right eye is 20/15, and in his left eye, 20/200. Following an examination in 2018, his optometrist stated, “Mr. Stahl has sufficient vision to operate a commercial vehicle.” Mr. Stahl reported that he has driven straight trucks for eight years, accumulating 176,000 miles, and tractor-trailer combinations for two years, accumulating 50,000 miles. He holds an operator's license from Minnesota. His driving record for the last three years shows no crashes and no convictions for moving violations in a CMV.

Alvin J. Urke

Mr. Urke, 77, has aphakia in his left eye due to a traumatic incident in childhood. The visual acuity in his right eye is 20/25, and in his left eye, hand motion. Following an examination in 2018, his ophthalmologist stated, “I certify that in my medical opinion, Mr. Urke has sufficient vision to perform the driving tasks required to operate a commercial vehicle.” Mr. Urke reported that he has driven straight trucks for 26 years, accumulating 130,000 miles. He holds a Class B CDL from California. His driving record for the last three years shows no crashes and no convictions for moving violations in a CMV.

David Wiebe

Mr. Wiebe, 52, has had amblyopia in his left eye since birth. The visual acuity in his right eye is 20/20, and in his left eye, 20/200. Following an examination in 2018, his optometrist stated, “Based on the above listed findings the patient's vision is sufficient to perform driving tasks required to operate a commercial vehicle.” Mr. Wiebe reported that he has driven tractor-trailer combinations for six years, accumulating 564,000 miles. He holds a Class A CDL from Texas. His driving record for the last three years shows no crashes and no convictions for moving violations in a CMV.

Robert L. Williams, Jr.

Mr. Williams, 56, has corneal opacity in his right eye due to a traumatic incident in 1988. The visual acuity in his right eye is 20/800, and in his left eye, 20/20. Following an examination in 2018, his optometrist stated, “It is my professional opinion Mr. Williams has sufficient vision to perform the driving tasks required to operate a commercial vehicle.” Mr. Williams reported that he has driven straight trucks for 20 years, accumulating 400,000 miles, tractor-trailer combinations for 20 years, accumulating 200,000 miles, and buses for 32 years, accumulating 320,000 miles. He holds a Class A CDL from Mississippi. His driving record for the last three years shows no crashes and no convictions for moving violations in a CMV.

IV. Request for Comments

In accordance with 49 U.S.C. 31136(e) and 31315, FMCSA requests public comment from all interested persons on the exemption petitions described in this notice. We will consider all comments and material received before the close of business on the closing date indicated in the dates section of the notice.

Issued on: February 28, 2019.
Larry W. Minor,
Associate Administrator for Policy.

[FR Doc. 2019-05269 Filed 3-19-19; 8:45 am]

BILLING CODE 4910-EX-P